ENVIRONMENTAL PROTECTION AGENCY

[EPA-HQ-OPP-2004-0340; FRL-8151-8]

Disulfoton; Order to Amend Registrations to Terminate Uses

AGENCY: Environmental Protection Agency (EPA).

ACTION: Notice.

SUMMARY: This notice announces EPA's order for the cancellation, voluntarily requested by the registrant and accepted by the Agency, of certain products containing the pesticide disulfoton, pursuant to section 6(f)(1) of the Federal Insecticide, Fungicide, and Rodenticide Act (FIFRA), as amended. This termination order follows a December 15, 2004 Federal Register Notice of Receipt of Request (69 FR 75061) (FRL-7689-8) from the disulfoton registrant to voluntarily terminate the following uses of their 15% granular formulation of disulfoton (Di-Syston 15G): beans, Brussels sprouts, cabbage, cauliflower, cotton, peanuts, peppers, radish grown for seed, and clover grown for seed. Di-Syston 15G is not the last disulfoton product registered for use in the United States. The registrant will retain use of Di-Syston 15G on Fraser fir Christmas trees in North Carolina and coffee trees in Puerto Rico, provided it is used with a closed system applicator. The registrant will retain the registration of Di-Syston 8E, the liquid emulsifiable concentrate, which must also be used with closed system applicators. In the December 15, 2004 notice, EPA indicated that it would issue an order implementing the amendments to terminate the subject uses, unless the Agency received substantive comments within the 180 day comment period that would merit its further review of these requests, or unless the registrant withdrew their request within this period. The Agency received comments on the notice but none merited its further review of the requests. The registrant did not withdraw their request. Accordingly, EPA hereby issues in this notice a cancellation order granting the requested Voluntary Termination of Certain Uses. Any distribution, sale, or use of the Di-Syston 15G products subject to this cancellation order is permitted only in accordance with the terms of this order, including any existing stocks provisions.

DATES: The use terminations are effective October 10, 2007.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2004-0340. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

This notice announces an amendment to terminate uses, as requested by registrants, of certain end-use disulfoton products registered under section 3 of FIFRA. These registrations are listed in sequence by registration number in Table 1 of this unit.

Table 1.— Disulfoton Product Reregistrations Affected by Amendment to Terminate Uses
EPA Registration Number | Product Name
264-723 | Di-Syston 15G

Table 2 of this unit includes the names and addresses of record for all registrants of the products in Table 1 of this unit, in sequence by EPA company number.

Table 2—Registrants of Cancelled and/or Amended Disulfton Products
EPA Company Number | Company Name and Address
264 | Bayer CropSciences, 2 T.W. Alexander Drive, Research Triangle Park, NC 27709

III. Summary of Public Comments Received and Agency Response to Comments

During the public comment period, EPA received two comments on the December 15, 2004 Notice. One comment requested cancellation of the use of Di-Syston 15G on Fraser fir Christmas trees in North Carolina and coffee trees in Puerto Rico. However, the comment did not contest any specific aspect of the Agency's evaluation of these uses. A second comment protested the cancellation of Di-Syston 15G usage on winter wheat. However, the December 15, 2004 Notice did not list winter wheat among the uses for voluntary termination. The 2002 disulfoton RED stipulated that Di-Syston 15G wheat usage would be phased out by 2005. The Agency will evaluate this comment and publish the results in a separate Federal Register entry. For these reasons, the Agency does not believe that the comments submitted during the comment period merit further review or a denial of the requests for voluntary cancellation.

IV. Cancellation Order

Pursuant to FIFRA section 6(f), EPA hereby approves the requested use terminations of disulfoton registrations identified in Table 1. Accordingly, the Agency orders that the disulfoton product registrations identified in Table 1 of Unit II are hereby canceled and amended to terminate the affected uses. Any distribution, sale, or use of existing stocks of the products identified in Table 1 in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

The Agency will allow the continued sale and/or use of existing stocks of cancelled products until such stocks are exhausted, provided that such use is consistent with the terms of the previously approved labeling on, or that accompanied, the cancelled product.

List of Subjects

Environmental protection, Pesticides and pests.

Dated: September 26, 2007.
Steven Bradbury,
Director, Special Review and Reregistration Division, Office of Pesticide Programs.

[FR Doc. E7-19816 Filed 10-9-07; 8:45 am]

BILLING CODE 6560-50-S